ENVIRONMENTAL PROTECTION AGENCY

[EPA-R3-PAL-001; FRL-9801-9]

Notice of Issuance of Final Air Permit; Architect of the Capitol—Capitol Power Plant

AGENCY: Environmental Protection Agency (EPA).

ACTION: Notice of final agency action.

SUMMARY: This action is to provide notice that on January 23, 2013, EPA issued a final air permit to the Architect of the Capitol for the Capitol Power Plant (CPP). This permit became effective on February 25, 2013.

The CPP permit establishes a plantwide applicability limit (PAL) for emissions of oxides of nitrogen as an indicator for nitrogen dioxide, particulate matter less than or equal to ten micrometers in diameter, and greenhouse gases. This action is being taken in accordance with EPA's procedures for decision making set forth at 40 CFR part 124 and the Clean Air Act (CAA).

ADDRESSES: The final permit, EPA's response to public comments, and additional supporting information are available at http://www.epa.gov/reg3artd/permitting/capitol_power.html. Copies of the final permit and EPA's response to comments are also available for review at the EPA Region III office and upon request in writing. EPA requests that you contact the person listed in the FOR FURTHER INFORMATION CONTACT section to schedule your inspection. The Regional Office's official hours of business are Monday through Friday, 8:30 to 4:30 excluding federal holidays.

FOR FURTHER INFORMATION CONTACT: Mike Gordon, (215) 814-2039, or by email at gordon.mike@epa.gov.

SUPPLEMENTARY INFORMATION: On August 29, 2012, EPA published a request for public comment and notice of a public hearing for the CPP permit in the Washington Times. EPA received over 200 comments during the public comment period, which ended on October 1, 2012. EPA carefully reviewed each of the comments submitted, and after consideration of the expressed view of all interested persons, the pertinent federal statutes and regulations, the applications and additional material relevant to the applications and contained in the administrative record, EPA made a decision in accordance with 40 CFR 52.21 and 40 CFR part 124 to issue the final PAL permit to CPP. The permit was signed on January 23, 2013, and notice of the final permit decision was provided in accordance with the requirements of 40 CFR 124.15. The District Department of the Environment (DDOE) is also in the process of issuing permits to CPP, however, the DDOE's permits are not part of this action.

Under 40 CFR 124.19(f)(2), notice of any final EPA action regarding a permit issued under the authority of 40 CFR 52.21 must be published in the Federal Register. Section 307(b)(1) of the CAA provides for review of any final EPA action in the United States Court of Appeals for the appropriate circuit. Such a petition for review of final EPA action must be filed within 60 days from the date of notice of such action in the Federal Register. For purposes of judicial review under the CAA, final EPA action occurs when a final Prevention of Significant Deterioration permit is issued or denied by EPA, and EPA review procedures are exhausted under 40 CFR 124.19(f)(1).

Any person who filed comments on the draft CPP permit was provided the opportunity to petition the Environmental Appeals Board by February 25, 2013. No petitions were submitted; therefore the CPP permit became effective on February 25, 2013.

Dated: March 28, 2013.
Diana Esher,
Director, Air Protection Division, Region III.

[FR Doc. 2013-08697 Filed 4-11-13; 8:45 am]

BILLING CODE 6560-50-P